DEPARTMENT OF AGRICULTURE

Farm Service Agency

Information Collection; Facsimile Signature Authorization and Verification

AGENCY: Farm Service Agency, USDA.

ACTION: Notice and request for comments.

SUMMARY: In accordance with the Paperwork Reduction Act of 1995, the Farm Service Agency is seeking comments from all interested individuals and entities on an extension of a currently approved collection. Specifically, comments are sought about FSA-237, which serves as a verification of producer's original signature and their desire to conduct business with FSA electronically.

DATES: Comments on this notice must be received on or before August 26, 2003 to be assured of consideration. Comments received after that date will be considered to the extent practicable.

ADDRESSES: Comments concerning this notice should be addressed to Virgil Ireland, Agricultural Program Specialist, USDA, FSA, STOP 0517, 1400 Independence Avenue, SW., Washington, DC 20250 and Desk Officer for Agriculture, Office of Information and Regulatory Affairs, Office of Management and Budget, Washington, DC 20503. Comments may be submitted via facsimile to (202) 690-3632. Copies of the information collection may be obtained from Mr. Ireland at the above address.

FOR FURTHER INFORMATION CONTACT: Virgil Ireland, Agricultural Program Specialist, Emergency Preparedness and Program Branch, Production, Emergencies, and Compliance Division, (202) 720-5103.

SUPPLEMENTARY INFORMATION:

Description of Information Collection

Title: Facsimile Signature Authorization and Verification (7 CFR part 718).

OMB Control Number: 0560-0203.

Type of Request: Extension of currently approved information collection.

Abstract: Individuals wishing to conduct business and provide certain signed documents to the USDA Service Center agencies via facsimile machines must complete a FSA-237, Facsimile Signature Authorization and Verification form. The FSA-237 serves as evidence that the individual is willing to conduct business and provide signed documents through facsimile machines. The FSA-211 also provides the agencies a source to authenticate signatures and transactions in the event of errors or fraud that require legal remedies. The information collected on the FSA-237 is limited to the individual's name, signature and identification number. Individuals must agree to the terms and conditions of conducting business via facsimile machines. Without the collection of this information, USDA service center agencies cannot ensure the authenticity of signatures received via facsimile unless they are supplemented with the original signature.

Estimate of Respondent Burden: Public reporting burden for this collection of information is estimated to average .02 hours per response.

Respondents: Individuals who wish to conduct business with USDA service center agencies via facsimile.

Estimated Number of Respondents: 987,341 hours.

Estimated Number of Annual Responses per Respondent: 1.

Estimated Total Annual Burden on Respondents: 19,747.

Comment is invited: (1) Whether the collection of information is necessary for the proper performance of the functions of the agency, including whether the information will have practical or scientific utility; (2) the accuracy of the agency's estimate of the burden of the collection of information, including the validity of methodology and assumptions used; (3) ways to enhance the quality, utility and clarity of the information to be collected; and (4) ways to minimize the burden of the collection of the information on respondents, including the use of automated, electronic, mechanical, or other technological collection techniques or other forms of information technology.

All comments received in response to this notice, including names and addresses when provided, will be a matter of public records. Comments will be summarized and included in the submission for Office of Management and Budget approval.

Signed at Washington, DC, on June 20, 2003.
James R. Little,
Administrator, Farm Service Agency.

[FR Doc. 03-16311 Filed 6-26-03; 8:45 am]

BILLING CODE 3410-05-P